DEPARTMENT OF HEALTH AND HUMAN SERVICES

Food and Drug Administration

[Docket No. 02N-0456]

Determining Hospital Procedures for Opened-But-Unused, Single-Use Medical Devices; Request for Comments and Information; Correction

AGENCY: Food and Drug Administration, HHS

ACTION: Notice; correction.

SUMMARY: The Food and Drug Administration (FDA) is correcting a notice that appeared in the Federal Register of August 28, 2002 (67 FR 55269). The document announced a request for comments about current practices with respect to opened-but-unused, single-use medical devices. The document was inadvertently published with an incorrect docket number. This document corrects that error.

FOR FURTHER INFORMATION CONTACT: Joyce Strong, Office of Policy, Planning, and Legislation (HF-27), Food and Drug Administration, 5600 Fishers Lane, rm. 12A-27, Rockville, MD 20857, 301-827-7010.

SUPPLEMENTARY INFORMATION: In FR Doc. 02-21891, appearing on page 55269 in the Federal Register of Wednesday, August 28, 2002, the following correction is made:

1. On page 55269, in the third column, “[Docket No. 00D-0053]” is corrected to read “[Docket No. 02N-0456]”.

Dated: October 21, 2002.
Margaret M. Dotzel,
Associate Commissioner for Policy.

[FR Doc. 02-27413 Filed 10-28-02; 8:45 am]

BILLING CODE 4160-01-S